DEPARTMENT OF TRANSPORTATION

Federal Aviation Administration

14 CFR Part 121

[Docket No. FAA-2012-0486; Amdt. No. 121-359]

Removal of Six Month Line Check Requirement for Pilots Over Age 60; Technical Amendment

AGENCY: Federal Aviation Administration, DOT.

ACTION: Final rule; technical amendment.

SUMMARY: The “FAA Modernization and Reform Act of 2012,” enacted on February 14, 2012, in Section 305 of the Act, removed the line check performance evaluation requirements for pilots over 60 years of age that applied to air carriers engaged in part 121 operations. This technical amendment conforms to the FAA's regulations as a result of the Act.

DATES: Effective June 12, 2012.

FOR FURTHER INFORMATION CONTACT: For technical questions concerning this rule contact Nancy Lauck Claussen, Air Transportation Division, AFS-200, Federal Aviation Administration, 800 Independence Avenue SW., Washington, DC 20591; telephone (202) 267-8166, email nancy.l.claussen@faa.gov.

SUPPLEMENTARY INFORMATION:

Background

In 2007, Congress enacted the “Fair Treatment for Experienced Pilots Act” which became effective December 13, 2007. This legislation raised the upper age limit for pilots in part 121 from age 60 to age 65. It also required that air carriers engaged in part 121 operations evaluate the performance of 60 years old pilots, through a line check, every 6 months.

On February 14, 2012, Congress enacted the “FAA Modernization and Reform Act of 2012” (the “Act”). Section 305 of the Act removed the line check evaluation performance requirements contained in the Fair Treatment for Experienced Pilots Act.

Upon enactment of the Act, § 121.440 (d) through (f) of the Code of Federal Regulations (CFR) ceased to be effective. Section 121.440(d) requires that no certificate holder may use the services of any person as a pilot unless the certificate holder evaluates every 6 months the performance, through a line check, of each pilot who has attained 60 years of age.

Section 121.440(e) requires that no pilot who has attained 60 years of age may serve as a pilot in operations, under this part, unless the certificate holder has evaluated the pilot's performance every 6 months, through a line check.

Section 121.440(f) establishes limitations regarding the requirements in (d) and (e) that apply to the line check requirements for pilots over age 60.

The requirement that the performance of each pilot of the air carrier who has attained 60 years of age be evaluated, through a line check, every 6 months, is more restrictive than line check requirements that apply to other pilots in part 121 operations. These provisions only require that pilots-in command be evaluated, through a line check, every 12 months. With Section 305 of the Act, it was Congress' objective to impact rules governing the age limitation requirements of pilots over age 60 engaged in operations under part 121. This technical amendment aligns FAA regulations to statutory requirements which will establish the same line check requirements for all pilots in part 121 operations, regardless of age.

Discussion of Dates

The Act was effective on February 14, 2012. Pending publication of this rule, the FAA has not enforced the line check requirements for pilots who have attained 60 years of age. This technical amendment conforms to the FAA's regulations as a result of the Act and is effective upon publication in the Federal Register.

Technical Amendment

A legislative mandate of this nature makes it unnecessary to provide an opportunity for notice and comment. Further, we find that good cause exists under 5 U.S.C. 553(d)(3) to make the amendment effective upon publication to minimize any possible confusion. If we do not correct the language in the CFR, we are likely to receive numerous petitions for exemption, because the published language is not consistent with the statute. Since the FAA would not have safety or policy reasons to deny the exemptions, we have included these amendments in this final rule to remove the requirements that each pilot of the air carrier who has attained 60 years of age be evaluated, through a line check, every 6 months.

List of Subjects in 14 CFR Part 121

Air carriers, Aircraft, Airmen, Alcohol abuse, Aviation safety, Charter flights, Drug abuse, Drug testing, Reporting and recordkeeping requirements, Safety.

The Amendment

In consideration of the foregoing, the Federal Aviation Administration amends Chapter I of Title 14 Code of Federal Regulations as follows:

PART 121—OPERATING REQUIREMENTS: DOMESTIC, FLAG, AND SUPPLEMENTAL OPERATIONS

1. The authority citation for part 121 continues to read as follows:

Authority: 49 U.S.C. 106(g), 40113, 40119, 41706, 44101, 44701-44702, 44705, 44709-44711, 44713, 44716-44717, 44722, 44901, 44903-44904, 44912, 45101-45105, 46105, 46301.

§ 121.440 [Amended]

2. Amend § 121.440 by removing paragraphs (d) through (f).

Issued in Washington, DC, on June 5, 2012.
Lirio Liu,
Acting Director, Office of Rulemaking.

[FR Doc. 2012-14280 Filed 6-11-12; 8:45 am]

BILLING CODE 4910-13-P